DEPARTMENT OF THE INTERIOR

National Park Service

[N6832; NPS-WASO-NAGPRA-NPS0041693; PPWOCRADN0-PCU00RP14.R50000]

Notice of Intended Repatriation: Wilson Museum, Castine, ME

AGENCY: National Park Service, Interior.

ACTION: Notice.

SUMMARY: In accordance with the Native American Graves Protection and Repatriation Act (NAGPRA), the Wilson Museum intends to repatriate certain cultural items that meet the definition of sacred objects and that have a cultural affiliation with the Indian Tribes or Native Hawaiian organizations in this notice.

DATES: Repatriation of the cultural items in this notice may occur on or after February 6, 2026.

ADDRESSES: Send additional, written requests for repatriation of the cultural items in this notice to Abby Dunham, Wilson Museum, PO Box 196, 120 Perkins Street, Castine, ME 04421, email repatriation@wilsonmuseum.org.

SUPPLEMENTARY INFORMATION: This notice is published as part of the National Park Service's administrative responsibilities under NAGPRA. The determinations in this notice are the sole responsibility of the Wilson Museum, and additional information on the determinations in this notice, including the results of consultation, can be found in the summary or related records. The National Park Service is not responsible for the determinations in this notice.

Abstract of Information Available

A total of eight cultural items has been requested for repatriation consisting of eight sacred objects.

One sacred object is a pair of beaded moccasins acquired by Helen Bemis Hovey in Arizona ca. 1910-1920, donated to the museum by Nancy Angers in 1985.

One sacred object is a pair of beaded and quilled hide medicine bags acquired by Helen Bemis Hovey in Arizona ca. 1910-1920, donated by Nancy Angers in 1985.

One sacred object is a quilled and beaded cradle hood acquired by Helen Bemis Hovey in Arizona ca. 1910-1920, donated by Nancy Angers in 1985.

Two sacred objects are beaded cradleboard covers, possibly acquired by Dr. Carlotta Maury ca. 1893 at an unknown location in the Plains region.

One sacred object is a hide and horsehair rattle, collected by an unknown individual at an unknown date and location, identified in museum records as “Plains Indian (Sioux).”

One sacred object is a beaded and quilled hide pipe bag, collected by an unknown individual at an unknown date and location.

One sacred object is a beaded and quilled knife sheath acquired by Helen Bemis Hovey in Arizona ca. 1910-1920, donated by Nancy Angers in 1985.

Determinations

The Wilson Museum has determined that:

• The eight sacred objects described in this notice are specific ceremonial objects needed by a traditional Native American religious leader for present-day adherents to practice traditional Native American religion, according to the Native American traditional knowledge of a lineal descendant, Indian Tribe, or Native Hawaiian organization.

• There is a connection between the cultural items described in this notice and the Assiniboine and Sioux Tribes of the Fort Peck Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 6, 2026. If competing requests for repatriation are received, the Wilson Museum must determine the most appropriate requestor prior to repatriation. Requests for joint repatriation of the cultural items are considered a single request and not competing requests. The Wilson Museum is responsible for sending a copy of this notice to the Indian Tribes and Native Hawaiian organizations identified in this notice and to any other consulting parties.

Authority: Native American Graves Protection and Repatriation Act, 25 U.S.C. 3004 and the implementing regulations, 43 CFR 10.9.

Dated: December 18, 2025.
Melanie O'Brien,
Manager, National NAGPRA Program.

[FR Doc. 2026-00063 Filed 1-6-26; 8:45 am]

BILLING CODE 4312-52-P